DEPARTMENT OF DEFENSE

Department of the Air Force

Acceptance of Group Application Under Public Law 95-202 and Department of Defense Directive (Dodd) 1000.20; “The U.S. and Foreign Civilian Employees of Cat, Inc., and Air America, Inc. Who Participated in Selected Activities”

Authority: Under the provisions of Section 401, Public Law 95-202 and DoD Directive 1000.20.

ACTION: The Department of Defense Civilian/Military Service Review Board has accepted a reconsideration of its prior recommendation concerning certain U.S. and foreign civilian employees of CAT, Inc. and Air America, Inc.

SUMMARY: The specific activities within this reconsideration are the groups known as:

“(a) The U.S. and Foreign Civilian Employees of CAT, Inc., Who Operated in Korea Under Operation Book Lift During 1950 and 1951 and Any Ground Support Personnel Necessary to Support That Mission;

“(b) the U.S. and Foreign Civilian Employees of CAT, Inc., Who Operated Air Force C-119 Aircraft to Drop Ammunition and Other Supplies to French Troops at Dien Bien Phu in 1954 and Any Ground Support Personnel Necessary to Support that Mission;

“(c) the U.S. and Foreign Civilian Employees of CAT, Inc., Who Operated B-26 Aircraft in Indonesia From 1958 Through 1962, and Any Ground Support Personnel Who Supported That Mission:

“(d) the U.S. and Foreign Civilian Employees of Air America, Inc., who Operated Fixed Wing or Helicopter Aircraft in Support of U.S. Army Special Forces in Laos as Part of Operation Hot Foot and Operation White Star From 1959 Through 1962, and in Support of Operation Mill Pond, the Airlift from Thailand to Tibet, and Any Ground Support Personnel Necessary to Support Those Missions;

“(e) the U.S. and Foreign Civilian Employees of Air America, Inc., Who Operated Fixed Wing or Helicopter Aircraft in Direct Support of the U.S. Air Force Operating in Laos in the Steve Canyon Program (Ravens), the Site 85 Operation, Photo Reconnaissance, the Harp Program, and Search and Rescue (SAR) Operations for U.S. Military Flight Crews from 1964 Through 1974, and Any In-Country Ground Support Personnel, Who Were Necessary to Support Those Missions and Held Supervisory Positions; and

“(f) the U.S. and Foreign Civilian Employees of Air America, Inc., Who Operated Fixed Wing or Helicopter Aircraft in Vietnam in Direct Support of the U.S. Army Special Forces from 1964 through 1975, and Any In-Country Ground Support Personnel, Who Were Necessary to Support those Missions and Held Supervisory Positions.”

FOR FURTHER INFORMATION CONTACT: Persons with information or documentation pertinent to the determination of whether the service of these groups should be considered active military service to the Armed Forces of the United States are encouraged to submit such information or documentation within 30 days to the DoD Civilian/Military Service Review Board, 1535 Command Drive, EE-Wing, 3rd third Floor, Andrews AFB, MD 20762-7002. Copies of documents or other materials submitted cannot be returned.

Bao-Anh Trinh,
Air Force Federal Register Liaison Officer.

[FR Doc. E6-540 Filed 1-18-06; 8:45 am]

BILLING CODE 5001-05-P